DEPARTMENT OF THE INTERIOR

Bureau of Land Management

[ID-070-2824-DS-PJ04]

Fire, Fuels, and Related Vegetation Management Direction Draft Plan Amendment and Environmental Impact Statement

AGENCY: Bureau of Land Management, Interior.

ACTION: Notice of availability.

SUMMARY: The Upper Snake River District of the Bureau of Land Management (BLM), located in south-central and eastern Idaho, has prepared a Fire, Fuels, and Related Vegetation Management Direction Draft Plan Amendment and Environmental Impact Statement (Draft Plan Amendment/EIS) to consider management direction for fire, fuels, and related uses of vegetation. This planning process is in conformance with the National Environmental Policy Act (NEPA), the Federal Land Policy and Management Act (FLPMA), and the Federal Wildland Fire Management Policy (USDI et al. 1995, reviewed and updated in 2001). The Draft Plan Amendment/EIS is available for public review and comment.

DATES: Written comments will be accepted for 90 days following the date the Environmental Protection Agency publishes this Notice of Availability in the Federal Register. Future meetings and any other opportunities for public involvement will be announced at least 15 days in advance through public notices, media news releases, and/or mailings. In addition, information on public meetings will be posted on the Internet at http://www.id.blm.gov/planning/fmda/index.htm. To receive full consideration, comments must be postmarked no later than the last day of the written comment period. (The last day of the written comment period will be also be identified in the internet address above, after publication of the Notice in the Federal Register.)

ADDRESSES: Copies of the Draft Plan Amendment/EIS are available upon request from the Pocatello Field Office, Bureau of Land Management, 4350 Cliffs Drive, Pocatello, Idaho 83204, phone 208-478-6340, or at http://www.id.blm.gov/planning/fmda/index.htm via the Internet. You may submit written comments on the draft document by any of the following methods:

• Mail: FMDA Planning Team, Pocatello Field Office, Bureau of Land Management, 4350 Cliffs Drive, Pocatello, Idaho 83204.

• E-mail: ID_USRD_FMDA@blm.gov.

• Fax: 208-478-6376.

All public comments, including the names and mailing addresses of respondents, will be available for public review at the BLM Pocatello Field Office, in Pocatello, Idaho during regular business hours from 7:45 a.m. to 4:30 p.m., Monday through Friday, except holidays, and may be published as part of the final plan amendment/EIS. Individual respondents may request confidentiality. If you wish to withhold your name or address from public review or from disclosure under the Freedom of Information Act, please state this prominently at the beginning of your written correspondence. The BLM will honor such requests to the extent allowed by law. All submissions from organizations and businesses, and from individuals identifying themselves as representatives or officials of organizations or businesses, will be available for public inspection in their entirety.

FOR FURTHER INFORMATION CONTACT: Eric Limbach, FMDA Project Manager, 4350 Cliffs Drive, Pocatello, Idaho 83204, phone 208-478-6392, e-mail Eric_Limbach@blm.gov.

SUPPLEMENTARY INFORMATION: The Fire, Fuels, and Related Vegetation Management Direction Draft Plan Amendment/EIS was developed with broad public participation through a three year collaborative planning process. It addresses management on approximately 5.4 million acres of public land in the Upper Snake River District of the BLM, comprising the Burley, Idaho Falls, Pocatello, and Shoshone Field Offices in south-central and eastern Idaho.

The Draft Plan Amendment/EIS would incorporate the National Fire Plan's Cohesive Strategy and the Federal Wildland Fire Management Policy into existing BLM land use plans. The draft EIS displays the environmental effects of implementing those amended plans.

The purpose of the proposed fire management plan amendment is to:

• Establish fire management guidance, objectives, policies, and management actions;

• Identify resource goals and methods, including desired future condition of the fire-related vegetation resources, and management actions necessary to achieve objectives;

• Form the basis to update fire management plans and integrate them with allotment management plans, wildlife management plans, recreation management plans, Idaho Standards for Rangeland Health and Guidelines for Livestock Grazing, and other applicable plans, to the greatest extent possible; and

• Provide LUP level direction to enable incremental steps toward a long-term resource goal of conditions that minimize risk to human life and property and maintain or restore vegetation that is resistant to catastrophic wildfire.

Four alternatives are analyzed. Alternative A, the No Action alternative, reflects current Land Use Plan direction, emphasizes wildland fire suppression, and minimizes the use of wildland fire for resource benefit. Alternative B emphasizes the increased use of fire, including prescribed fire and wildland fire use to more closely approximate the historical role of fire and prepare sites for restoration treatments. Alternative C would fully implement the Cohesive Strategy from the National Fire Plan (treats more acres with prescribed fire than the other alternatives). Alternative D, the Preferred Alternative, focuses on maintaining or restoring the sagebrush steppe ecosystem and its associated wildlife species, including sage grouse.

Dated: August 12, 2004.
K Lynn Bennett,
Bureau of Land Management, Idaho State Director.

[FR Doc. 04-23793 Filed 11-4-04; 8:45 am]

BILLING CODE 4310-66-P